DEPARTMENT OF LABOR

Employment and Training Administration

[TA-W-52,848]

Snap-Tite, Inc., Autoclave Engineers Division, Erie, PA; Notice of Termination of Investigation

Pursuant to Section 221 of the Trade Act of 1974, as amended, an investigation was initiated on September 12, 2003, in response to a petition filed on behalf of workers at Snap-Tite, Inc., Autoclave Engineers Division, Erie, Pennsylvania.

The petitioners have requested that the petition be withdrawn. Consequently, the investigation has been terminated.

Signed at Washington, DC this 3rd day of October 2003.
Richard Church,
Certifying Officer, Division of Trade Adjustment Assistance.

[FR Doc. 03-29681 Filed 11-26-03; 8:45 am]

BILLING CODE 4510-30-P